DEPARTMENT OF COMMERCE

International Trade Administration

[A-428-816]

Notice of Postponement of Preliminary Results of Antidumping Duty Administrative Reviews: Certain Cut-to-Length Carbon Steel Plate From Germany

AGENCY: Import Administration, International Trade Administration, Department of Commerce.

ACTION: Notice of postponement of preliminary results of antidumping duty administrative reviews.

EFFECTIVE DATE: April 7, 2000.

FOR FURTHER INFORMATION CONTACT: Doreen Chen or Robert Bolling, Office IX, DAS Group III, Import Administration, International Trade Administration, U.S. Department of Commerce, 14th Street and Constitution Avenue NW, Washington, DC 20230; telephone (202) 482-0408 and (202) 482-3434, respectively.

Postponement of Preliminary Results: The Department of Commerce (the Department) is postponing the preliminary results in the antidumping administrative reviews of Certain Cut-to-Length Carbon Steel Plate from Germany. The deadline for issuing the preliminary results in these administrative reviews is now August 30, 2000.

On October 29, 1999, the Department initiated these administrative reviews, setting May 2, 2000 as the date for issuing the preliminary results of the review. See Initiation of Antidumping and Countervailing Duty Administrative Reviews and Requests for Revocation in Part Thursday, July 29, 1999 (63 FR 58009 and 64 FR 53318). On February 15, 2000, the Department issued Sections A-C of the Department's questionnaires to the respondent, Reiner Brach GmbH & Co. KG. Because of the reasons stated in the memorandum from Edward Yang to Joseph A. Spetrini: Extension of Time Limit for the Administrative Reviews of Certain Cut-to-Length Carbon Steel Plate from Germany, April 3, 2000, we determine that it is not practicable to complete these reviews within the normal time frame and are therefore extending the time limit for these preliminary results of the administrative reviews of Certain Cut-to-Length Carbon Steel Plate from Germany by 120 days, in accordance with section 751(a)(3)(A) of the Tariff Act of 1930, as amended.

The date for issuing the preliminary results is moved from May 2, 2000 to August 30, 2000.

Dated: April 3, 2000.
Joseph A. Spetrini,
Deputy Assistant Secretary, AD/CVD Enforcement Group III.

[FR Doc. 00-8702 Filed 4-6-00; 8:45 am]

BILLING CODE 3510-DS-P